DEPARTMENT OF COMMERCE

International Trade Administration

[C-533-929]

Ceramic Tile From India: Countervailing Duty Order

AGENCY: Enforcement and Compliance, International Trade Administration, Department of Commerce.

SUMMARY: Based on affirmative final determinations by the U.S. Department of Commerce (Commerce) and the U.S. International Trade Commission (ITC), Commerce is issuing the countervailing duty order on ceramic tile from India.

DATES: Applicable June 16, 2025.

FOR FURTHER INFORMATION CONTACT: Natasia Harrison at (202) 482-1240 or Jinny Ahn at (202) 482-0339, AD/CVD Operations, Enforcement and Compliance, International Trade Administration, U.S. Department of Commerce, 1401 Constitution Avenue NW, Washington, DC 20230.

SUPPLEMENTARY INFORMATION:

Background

On April 23, 2025, Commerce published its affirmative final determination in the countervailing duty investigation of ceramic tile from India.¹ On June 9, 2025, the ITC notified Commerce of its final affirmative determination, pursuant to section 705(d) of the Act, that an industry in the United States is threatened with material injury by reason of imports of ceramic tile from India that Commerce has determined are subsidized by the government of India.²

¹ See Ceramic Tile from India: Final Affirmative Countervailing Duty Determination and Final Affirmative Critical Circumstances Determination, in Part, 90 FR 17036 (April 23, 2025) (Final Determination).

² See ITC's Letter, “Notification Letter: Investigation No. 701-TA-720 (Final),” dated June 9, 2025 (ITC Notification Letter). See also Ceramic Tile from India, Investigation Nos. 701-TA-72o (Final), USITC Pub. 5630 (June 2025) (ITC Final Report), at 1.

Scope of the Order

The product covered by this order is ceramic tile from India. For a complete description of the scope of this order, see the appendix to this notice.

Countervailing Duty Order

Based on the above-referenced affirmative final determination by the ITC that an industry in the United States is threatened with material injury by reason of imports of such merchandise from India,³ and, in accordance with sections 705(c)(2) of the Act, Commerce is issuing this countervailing duty order.

³ See ITC Notification Letter.

According to section 706(b)(2) of the Act, countervailing duties shall be assessed on subject merchandise entered, or withdrawn from warehouse, for consumption on or after the date of publication of the ITC's notice of final determination if that determination is based upon the threat of material injury, other than threat of material injury as described in section 706(b)(l) of the Act. Section 706(b)(l) of the Act states, “{i}f the Commission, in its final determination under section 705(b), finds material injury or threat of material injury which, but for the suspension of liquidation under section 703(d)(2), would have led to a finding of material injury, then entries of the merchandise subject to the countervailing duty order, the liquidation of which has been suspended under section 703(d)(2), shall be subject to the imposition of countervailing duties under section 701(a).” In addition, section 706(b)(2) of the Act requires Customs and Border Protection (CBP) to refund any cash deposits of estimated countervailing duties posted before the date of publication of the ITC's final affirmative determination, if the ITC's final determination is based on threat other than the threat described in section 706(b)(1) of the Act. The ITC's final determination with regard to imports of ceramic tile from India is based on the threat of material injury and is not accompanied by a finding that injury would have resulted but for the imposition of suspension of liquidation of entries since the publication of Commerce's Preliminary Determination ⁴ in the Federal Register, section 706(b)(2) of the Act applies.⁵ As such, Commerce will instruct CBP to terminate the suspension of liquidation of entries of ceramic tile from India entered, or withdrawn from warehouse, for consumption prior to the publication of the ITC's notice of final determination in the Federal Register. Further, Commerce will also instruct CBP to refund any cash deposit with respect to entries of ceramic tile from India entered, or withdrawn from warehouse, for consumption before the date of publication of the ITC's notice of final determination in the Federal Register.

⁴ See Ceramic Tile from India: Preliminary Affirmative Countervailing Duty Determination, Preliminary Affirmative Critical Circumstances Determination, in Part, and Alignment of Final Determination With the Final Antidumping Duty Determination, 89 FR 79245 (September 27, 2024) (Preliminary Determination).

⁵ See ITC Final Report at 34, Fn 217.

Critical Circumstances

Having made a determination that an industry in the United States is threatened with material injury by reason of imports of ceramic tile from India, the ITC did not reach the issue of critical circumstances regarding subject imports from India.⁶

⁶ See Ceramic Tile from India, Investigation No. 701-TA-720 (Final), dated June 9, 2025 (ITC Final Report).

Suspension of Liquidation and Cash Deposits

In accordance with section 706 of the Act, we will direct CBP to suspend liquidation of entries of ceramic tile from India effective on the date of publication of the ITC's notice of final determination in the Federal Register. We will also direct CBP to assess, upon further instruction by Commerce, pursuant to section 706(a)(l) of the Act, countervailing duties for each entry of the subject merchandise in an amount based on the net countervailable subsidy rates for the subject merchandise. These instructions suspending liquidation will remain in effect until further notice.

Commerce also intends, pursuant to section 706(a)(1) of the Act, to instruct CBP to require cash deposits equal to the amounts as indicated below. Accordingly, effective on the date of publication of the ITC's final affirmative injury determination in the Federal Register, CBP will require, at the same time as importers would normally deposit estimated customs duties on the subject merchandise, a cash deposit for each entry of subject merchandise equal to the subsidy rates listed below.⁷ The all-others rates apply to all producers or exporters not specifically listed below, as appropriate.

⁷ See section 706(a)(3) of the Act.

Estimated Countervailable Subsidy Rates

The estimated countervailable subsidy rates are as follows:

Company | Subsidy rate (percent ad valorem)
Antiqa Minerals | 3.45
Win-Tel Ceramics Private Limited ⁸ | 3.06
All Others | 3.18

Establishment of the Annual Inquiry Service Lists

⁸ Commerce found Win-Tel Ceramics Private Limited to be cross-owned with Theos Tiles LLP. See Preliminary Results PDM at 14-15, unchanged in Final Determination.

On September 20, 2021, Commerce published the final rule titled “Regulations to Improve Administration and Enforcement of Antidumping and Countervailing Duty Laws” in the Federal Register.⁹ On September 27, 2021, Commerce also published the notice titled “Scope Ruling Application; Annual Inquiry Service List; and Informational Sessions” in the Federal Register.¹⁰ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹¹

⁹ See Regulations to Improve Administration and Enforcement of Antidumping and Countervailing Duty Laws, 86 FR 52300 (September 20, 2021) (Final Rule).

¹⁰ See Scope Ruling Application; Annual Inquiry Service List; and Informational Sessions, 86 FR 53205 (September 27, 2021) (Procedural Guidance).

¹¹ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL—Annual Inquiry Service List.” ¹²

¹² This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL—January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹³ the new annual inquiry service list will be in place until the following year, when the Opportunity Notice for the anniversary month of the order is published.

¹³ See Procedural Guidance, 86 FR at 53206.

Commerce may update an annual inquiry service list at any time as needed based on interested parties' amendments to their entries of appearance to remove or otherwise modify their list of members and representatives, or to update contact information. Changes or announcements pertaining to these procedures will be posted to the ACCESS website at https://access.trade.gov.

Special Instructions for Petitioner and Foreign Governments

In the Final Rule, Commerce stated that, “after an initial request and placement on the annual inquiry service list, both petitioners and foreign governments will automatically be placed on the annual inquiry service list in the years that follow.” ¹⁴ Accordingly, as stated above, the petitioners and foreign government should submit their initial entries of appearance after publication of this notice in order to appear in the first annual inquiry service lists for these orders. Pursuant to 19 CFR 351.225(n)(3), the petitioner and foreign government will not need to resubmit their entries of appearance each year to continue to be included on the annual inquiry service list. However, the petitioner and the foreign government are responsible for making amendments to their entries of appearance during the annual update to the annual inquiry service list in accordance with the procedures described above.

¹⁴ See Final Rule, 86 FR at 52335.

Notification to Interested Parties

This notice constitutes the countervailing duty order with respect to ceramic tile from India pursuant to section 736(a) of the Act. Interested parties can find a list of countervailing duty orders currently in effect at https://www.trade.gov/data-visualization/adcvd-proceedings.

This order is published in accordance with section 706(a) of the Act and 19 CFR 351.211(b).

Dated: June 11, 2025.
Steven Presing,
Acting Deputy Assistant Secretary for Policy and Negotiations.

Appendix

Scope of the Order

The merchandise covered by this order is ceramic flooring tile, wall tile, paving tile, hearth tile, porcelain tile, mosaic tile, flags, decorative tile, finishing tile, and the like (hereinafter ceramic tile). Ceramic tiles are articles containing a mixture of minerals including clay (generally hydrous silicates of alumina or magnesium) that are fired so the raw materials are fused to produce a tile that is less than 3.2 cm in thickness, exclusive of decorative features. All ceramic tile is subject to the scope regardless of end use, surface area, and weight, regardless of whether the tile is glazed or unglazed, regardless of the water absorption coefficient by weight, regardless of the extent of vitrification, and regardless of whether or not the tile is on a backing. Subject merchandise includes ceramic tile “slabs” or “panels” (tiles that are larger than 1 meter² (11 ft²)).

Subject merchandise includes ceramic tile that undergoes minor processing in a third country prior to importation into the United States. Similarly, subject merchandise includes ceramic tile produced that undergoes minor processing after importation into the United States. Such minor processing includes, but is not limited to, one or more of the following: beveling, cutting, trimming, staining, painting, polishing, finishing, additional firing, affixing a decorative surface to the tile, or any other processing that would otherwise not remove the merchandise from the scope of the investigation if performed in the country of manufacture of the in-scope product.

Subject merchandise is currently classified in the Harmonized Tariff Schedule of the United States (HTSUS) under the following subheadings of heading 6907: 6907.21.1005, 6907.21.1011, 6907.21.1051, 6907.21.2000, 6907.21.3000, 6907.21.4000, 6907.21.9011, 6907.21.9051, 6907.22.1005, 6907.22.1011, 6907.22.1051, 6907.22.2000, 6907.22.3000, 6907.22.4000, 6907.22.9011, 6907.22.9051, 6907.23.1005, 6907.23.1011, 6907.23.1051, 6907.23.2000, 6907.23.3000, 6907.23.4000, 6907.23.9011, 6907.23.9051, 6907.30.1005, 6907.30.1011, 6907.30.1051, 6907.30.2000, 6907.30.3000, 6907.30.4000, 6907.30.9011, 6907.30.9051, 6907.40.1005, 6907.40.1011, 6907.40.1051, 6907.40.2000, 6907.40.3000, 6907.40.4000, 6907.40.9011, and 6907.40.9051. Subject merchandise may also enter under subheadings of headings 6913, 6914, and 6905: 6913.90.2000, 6914.10.8000, 6914.90.8000, 6905.10.0000, and 6905.90.0050. The HTSUS subheadings are provided for convenience and customs purposes only. The written description of the scope of the investigation is dispositive.

[FR Doc. 2025-11052 Filed 6-13-25; 8:45 am]

BILLING CODE 3510-DS-P